DEPARTMENT OF COMMERCE

International Trade Administration

[A-570-898]

Chlorinated Isocyanurates From the People's Republic of China: Notice of Correction to the Final Results of Antidumping Duty Administrative Review

AGENCY: Import Administration, International Trade Administration, Department of Commerce

DATES: Effective Date: December 9, 2010.

FOR FURTHER INFORMATION CONTACT: Brandon Petelin, AD/CVD Operations, Office 8, Import Administration, International Trade Administration, U.S. Department of Commerce, 14th Street and Constitution Avenue, NW., Washington, DC 20230; telephone: (202) 482-8173.

SUPPLEMENTARY INFORMATION:

Correction

On November 17, 2010, the Department of Commerce (“Department”) published in the Federal Register the final results of the 2008-2009 administrative review of the antidumping duty order on chlorinated isocyanurates from the People's Republic of China (“PRC”).¹ The period of review covered June 1, 2008, through May 31, 2009. The published Federal Register notice contained a ministerial error, in that it listed an incorrect cash deposit rate for respondent Hebei Jiheng Chemical Company Ltd. (“Jiheng”) in one section of that notice. Specifically, in the “Final Results of Review” section of the notice, the Department correctly reported a final dumping margin for Jiheng of 2.66 percent; however, in the “Cash Deposit Requirements” section of the notice, the Department erroneously reported Jiheng's cash deposit rate as 1.76 percent.² The Department has determined that the rate identified in the “Cash Deposit Requirements” section of the Final Results was an unintentional error. In accordance with section 751(a)(2)(C) of the Tariff Act of 1930, as amended (“the Act”), Jiheng's final dumping margin should serve as the basis for its cash deposit rate. This notice serves to correct the cash deposit rate reported for Jiheng in the Final Results and to confirm that the correct final results margin for Jiheng for the 2008-2009 period of review is 2.66 percent.

¹ See Chlorinated Isocyanurates from the People's Republic of China: Final Results of 2008-2009 Antidumping Duty Administrative Review, 75 FR 70212 (November 17, 2010) (“Final Results”).

² Id. at 70213.

This correction is published in accordance with sections 751(h) and 777(i) of the Act.

Dated: December 3, 2010.
Paul Piquado,
Acting Deputy Assistant Secretary for Import Administration.

[FR Doc. 2010-30985 Filed 12-8-10; 8:45 am]

BILLING CODE P